DEPARTMENT OF ENERGY

Federal Energy Regulatory Commission

[Docket No. RP02-362-001]

PG&E Gas Transmission, Northwest Corporation; Notice of Compliance Filing

August 1, 2002.

Take notice that on July 24, 2002, PG&E Gas Transmission, Northwest Corporation (GTN) tendered for filing to be part of its FERC Gas Tariff, Second Revised Volume No. 1-A, First Revised Sheet No. 127, First Revised Sheet No. 128 and First Revised Sheet No. 129, with an effective date of August 23, 2002.

GTN states that these tariff sheets are being submitted to comply with the Commission's July 5, 2002 Order in this docket, which directed GTN to revise its tariff to make clear that GTN will not enter into a pre-arranged deal during the bidding process in an open season and to better explain how GTN will be entering into pre-arranged deals.

GTN further states that a copy of this filing has been served on GTN's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19935 Filed 8-6-02; 8:45 am]

BILLING CODE 6717-01-P